DEPARTMENT OF LABOR

Employment and Training Administration

[TA-W-59,241]

Eagle Picher Automotive, Jonesville, MI; Notice of Termination of Investigation

Pursuant to section 221 of the Trade Act of 1974, as amended, an investigation was initiated on April 19, 2006 in response to a petition filed by a company official on behalf of workers at Eagle Picher Automotive, Jonesville, Michigan.

The petitioner has requested that the petition be withdrawn. Consequently, the investigation has been terminated.

Signed at Washington, DC this 12th day of May, 2006.
Elliott S. Kushner,
Certifying Officer, Division of Trade Adjustment Assistance.

[FR Doc. E6-8060 Filed 5-24-06; 8:45 am]

BILLING CODE 4510-30-P